DEPARTMENT OF TRANSPORTATION

Federal Motor Carrier Safety Administration

[Docket No. FMCSA—2017-0196]

60-Day Notice of Proposed Information Collection: Pilot Program To Allow 18- to 21-Year-Old Persons With Military Driving Experience To Operate Commercial Motor Vehicles (CMVs) in Interstate Commerce

AGENCY: Federal Motor Carrier Safety Administration (FMCSA), Department of Transportation (DOT).

ACTION: Notice and request for comments.

SUMMARY: FMCSA is seeking approval from the Office of Management and Budget (OMB) for the information collection described below. In accordance with the Paperwork Reduction Act, FMCSA is requesting comment from all interested parties on the proposed collection of information. The purpose of this notice is to allow for 60 days of public comment.

Pursuant to Section 5404 of the Fixing America's Surface Transportation Act, 2015 (FAST Act), FMCSA proposes a 3-year period of information collection to determine whether the safety outcomes (to include crashes, moving violations, inspection violations, and safety critical events as available) of drivers under the age of 21 with military experience in the operation of heavy vehicles (i.e., “covered drivers”) participating in interstate commerce are similar to the safety outcomes of commercial motor vehicle drivers (CMV) drivers between the ages of 21 and 24 operating freight-carrying CMVs, and how training and experience impact the safety of the 18- to 20-year-old driving population. FMCSA proposed this pilot program and solicited public comment on August 22, 2016. The prior 60-day notice sought comment on program operations, including whether any additional safeguards are needed to ensure that the pilot program provides a level of safety equivalent to current safety levels. Additional details on the broader pilot program are available through a separate notice published in today's Federal Register.

DATES: Comments must be received on or before September 4, 2018.

ADDRESSES: You may submit comments bearing the Federal Docket Management System (FDMS) Docket ID FMCSA-2017-0196 using any of the following methods:

• Federal eRulemaking Portal: http://www.regulations.gov. Follow the online instructions for submitting comments.

• Fax: 1-202-493-2251.

• Mail: Docket Operations, U.S. Department of Transportation, 1200 New Jersey Ave. SE, West Building, Ground Floor, Room W12-140, Washington, DC 20590-0001.

• Hand Delivery or Courier: 1200 New Jersey Avenue SE, West Building, Ground Floor, Room W12-140, Washington, DC 20590 between 9 a.m. and 5 p.m., Monday through Friday, except Federal holidays.

Instructions: All submissions must include the Agency name and the docket number. For detailed instructions on submitting comments, see the Public Participation heading below. Note that all comments received will be posted without change to http://www.regulations.gov, including any personal information provided. Please see the Privacy Act heading below.

Docket: For access to the docket to read background documents or comments received, go to http://www.regulations.gov and follow the online instructions for accessing the dockets, or go to the street address listed above.

Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Public Participation: The Federal eRulemaking Portal is available 24 hours each day, 365 days each year. You can obtain electronic submission and retrieval help and guidelines under the “help” section of the Federal eRulemaking Portal website. If you want us to notify you that we received your comments, please include a self-addressed, stamped envelope or postcard, or print the acknowledgement page that appears after submitting comments online. Comments received after the comment closing date will be included in the docket and will be considered to the extent practicable.

FOR FURTHER INFORMATION CONTACT: Nicole Michel, Research Division, Federal Motor Carrier Safety Administration, 1200 New Jersey Avenue SE, Washington, DC 20590-0001, by email at nicole.michel@dot.gov, or by telephone at (202) 366-4354. If you have questions on viewing or submitting material to the docket, contact Docket Services, telephone (202) 366-9826.

SUPPLEMENTARY INFORMATION:

Title: Proposed Information Collection for a Pilot Program to Allow 18- to 21-Year-Old Persons with Military Driving Experience to Operate CMVs in Interstate Commerce.

OMB Control Number: 2126-00XX.

Type of Request: New information collection.

Respondents: Motor carriers; 21- to 24-year-old entry-level CMV drivers with valid commercial drivers' licenses (CDLs) operating in freight-carrying interstate commerce (control group drivers); 18- to 20-year-old freight-carrying CMV drivers with a valid CDL operating in intrastate commerce (intrastate group drivers); 18- to 20-year-old current or former military personnel with training in heavy-duty vehicle operations (covered drivers) and valid CDLs with a K-restriction.

Estimated Number of Respondents: 1,570. [Motor carriers: 70 in total; 50 at any given time. Control group drivers: 1,500 in total (Year 1 = 300; Year 2 = 100; Year 3 = 100; Annualized = 166.7). Intrastate group drivers: 500 in total (Year 1 = 300; Year 2 = 100; Year 3 = 100; Annualized = 166.7). Covered group drivers: 500 in total (Year 1 = 300; Year 2 = 100; Year 3 = 100; Annualized = 166.7).]

Estimated Time per Response: Motor Carriers: application—20 minutes (one-time response); monthly data submission—45 minutes (per participating driver); miscellaneous additional data submissions—60 minutes per month (e.g. notification of a crash with injury or fatality, notification of a driver leaving the carrier or study); monthly supporting information—15 minutes (per sponsored participating driver, monthly; e.g., optional on-board monitoring system [OBMS] logs, investigation findings for crashes). Drivers: background information and informed consent forms—20 minutes (one-time response).

Expiration Date: N/A. This is a new information collection request (ICR).

Frequency of Response: This is a one-time pilot program that will span a 3-year period of data collection. Throughout the 3-year pilot program, the response frequencies are: Motor-carrier applications: one-time response. Driver demographic and release forms: one-time response. Motor carrier driver data submission: monthly (see “Estimated Time per Response” for more details).

Estimated Total Annual Burden: 7,974.5 hours annualized. [This includes 7.8 hours annualized for motor carrier applications; 166.67 hours annualized for driver information and informed consent forms; 5,400 hours annualized for monthly driver activity and safety data; 600 hours annualized for miscellaneous tasks; and 1,800 hours annualized for additional supporting data]

I. Background

Applicable Regulations

Drivers of CMVs engaged in interstate commerce must be at least 21 years of age (49 CFR 391.11(b)(1)). This includes CMVs for which CDLs are required and certain other CMVs for which a CDL is not required.

In the May 9, 2011, final rule on “Commercial Driver's License Testing and Commercial Learner's Permit Standards,” (76 FR 26854), the Agency set a minimum age of 18 for an individual to obtain a CDL. A CDL holder under the age of 21 must have a “K” restriction on their CDL, which limits the driver to operating in intrastate commerce. Therefore, the proposed pilot program requires that participating drivers be provided relief from sections of 49 CFR parts 383 and 391 concerning minimum age requirements so that the covered drivers may operate in interstate commerce.

FAST Act Requirements

On December 4, 2015, the FAST Act was signed into law. Section 5404 of the FAST Act (Pub. L. 114-94, 129 Stat. 1312, 1549, Dec. 4, 2015) requires the Secretary of Transportation to conduct a commercial driver pilot program to “. . . study the feasibility, benefits, and safety impacts of allowing a covered driver to operate a commercial motor vehicle in interstate commerce.” A “covered driver” is defined as a current or former member of the armed forces or reserve components between the ages of 18 and 21, who is qualified in a Military Occupational Specialty (MOS) to operate a CMV or similar vehicle.

Section 5404 of the FAST Act requires the establishment of a data collection program to collect and analyze data regarding crashes involving covered drivers participating in the pilot program and drivers under the age of 21 operating CMVs in intrastate commerce. A report detailing the findings will be submitted to Congress no later than one year after completing data collection.

II. Purpose of Proposed ICR

The primary purpose of the proposed ICR is to support research to determine whether the safety outcomes of covered drivers participating in interstate commerce are similar to the safety outcomes of older entry-level drivers (i.e., CDL drivers between the ages of 21 and 24) and how training and experience impact the safety of the 18- to 20-year-old driving population. For the purposes of this ICR, safety outcomes refer to crashes, driver moving violations, total number of inspections for the month, violations from inspections, and any safety-critical events captured via OBMS, such as hard braking or sudden lane changes. This research effort will allow FMCSA to fulfill the requirements of Section 5404 of the FAST Act.

III. Data Collection Plan

Details of the data collection plan for this pilot program are subject to change based on comments to the docket and further review by analysts. FMCSA will encourage motor carriers to participate in the pilot who will then identify and employ covered, intrastate, and/or control group drivers and report participating drivers' safety and activity data to the project team.

The plan for the data collection task is to have approximately 50 motor carriers participating in the pilot program at a time (some carriers may wish to depart the study before the 3-year data collection period is complete; FMCSA intends to replace them as needed and as possible) who will then identify and employ at least one covered group driver, as well as intrastate drivers, and/or control group drivers and report their safety and activity data to FMCSA. Note that while only 50 carriers are expected to participate at any given time, an estimated 70 carriers will participate throughout the 3-year study due to carriers leaving the study and needing to be replaced.

FMCSA expects to include an average of 600 drivers in the study per year (200 control group, 200 intrastate, and 200 covered drivers). Because of relatively high turnover in the motor carrier industry and given that many covered drivers will turn 21 through the course of the pilot program (and therefore no longer be considered covered drivers), participating motor carriers will need to work with the project team to add additional drivers to the program over time. An estimated 300 replacement drivers (100 control group, 100 intrastate, and 100 covered) will participate during each year of the 3-year program due to expected turnover.

The information collection can be summarized by the following:

• A motor carrier application (completed once at the time of application) for participation in the pilot program will provide the project team with the carrier's contact information and demographic data.

• Each participating driver will need to complete a driver background information form and sign an informed consent form, which the motor carrier will submit on the driver's behalf. This is a one-time task for each driver.

• On a monthly basis, carriers will submit data on driver activity (e.g., duty hours, driving hours, off-duty time, restart breaks), safety outcomes (e.g., crashes, violations, and safety-critical events) and any additional supporting information (e.g., OBMS logs, investigative reports from previous crashes).

• Carriers will be required to notify FMCSA within 24 hours of: any injury or fatality crashes involving a participating driver, a participating driver receiving an alcohol-related citation (e.g., driving under the influence, driving while intoxicate), a participating driver choosing to leave the pilot program, a participating driver leaving the carrier, or a participating driver failing a random or post-crash drug/alcohol test.

This pilot limits the definition of CMVs to large trucks and does not include passenger-carrying vehicles, such as buses. In addition, the definition of CMVs is limited to trucks not in special configurations or involved in the transport of hazardous materials.

IV. Paperwork Reduction Act

The Paperwork Reduction Act of 1995 (the PRA) (44 U.S.C. 3501-3520) prohibits agencies from conducting information collection (IC) activities until they analyze the need for the collection of information and how the collected data will be managed. Agencies must also analyze whether technology could be used to reduce the burden imposed on those providing the data. The Agency must estimate the time burden required to respond to the IC requirements, such as the time required to complete a particular form. The Agency submits its IC analysis and burden estimate to OMB as a formal ICR; the Agency cannot conduct the information collection until OMB approves the ICR.

V. Request for Public Comments

FMCSA asks for comment on the IC requirements of this pilot. Comments can be submitted to the docket as outlined under ADDRESSES at the beginning of this notice. You are asked to comment on any aspect of this information collection, including:

1. Whether there are specific criteria that should make a driver ineligible to participate in the program.

2. Whether there are specific criteria that should make a carrier ineligible to participate in the program.

3. Whether the proposed collection is necessary for the performance of FMCSA's functions.

4. Whether additional items should be reported to FMCSA within 24 hours other than a driver being involved in a crash with injury or fatality, a driver receiving an alcohol-related citation, a driver choosing to leave the study, a driver leaving a carrier, or a driver failing a random or post-crash drug/alcohol test.

5. The accuracy of the estimated burdens.

6. Ways for FMCSA to enhance the quality, usefulness, and clarity of the collected information.

7. Ways that the burden could be minimized without reducing the quality of the collected information.

8. Whether the data collection efforts proposed for carriers and drivers are burdensome enough to discourage their participation.

9. Whether a comparison of the control group, intrastate driver group, and covered driver group is likely to produce valid conclusions.

Issued under the authority of 49 CFR 1.87 on: June 15, 2018.
Kelly Regal,
Associate Administrator, Office of Research and Information Technology.

[FR Doc. 2018-14028 Filed 7-3-18; 4:15 pm]

BILLING CODE 4910-EX-P